DEPARTMENT OF COMMERCE

International Trade Administration

(A-570-868)

Folding Metal Tables and Chairs from the People's Republic of China: Notice of Extension of Time Limit for the Preliminary Results of the Antidumping Duty Administrative Review

AGENCY: Import Administration, International Trade Administration, Department of Commerce.

EFFECTIVE DATE: May 4, 2007.

FOR FURTHER INFORMATION CONTACT: Laurel LaCivita or Matthew Quigley, AD/CVD Operations, Office 8, Import Administration, International Trade Administration, U.S. Department of Commerce, 14th Street and Constitution Avenue, NW, Washington, DC 20230; telephone: (202) 482-4243 or (202) 482-4551, respectively.

SUPPLEMENTARY INFORMATION:

Background

On July 27, 2006, the Department of Commerce (“the Department”) published the initiation of the administrative review of the antidumping duty order on folding metal tables and chairs from the People's Republic of China (“PRC”). See Initiation of Antidumping and Countervailing Duty Administrative Reviews and Request for Revocation in Part, 71 FR 42626 (July 27, 2006). On March 7, 2007, the Department published a notice in the Federal Register extending the time limit for the preliminary results of review until May 31, 2007. See Folding Metal Tables and Chairs from the People's Republic of China: Notice of Extension of Time Limit for the Preliminary Results of the Antidumping Duty Administrative Review, 72 FR 10141 (March 7, 2007). This review covers the period June 1, 2005, through May 31, 2006. The preliminary results of review are currently due no later than May 31, 2007.

Extension of Time Limit for Preliminary Results of Review

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

The Department finds that it is not practicable to complete the preliminary results of the administrative review of folding metal tables and chairs from the PRC within this time limit because of the need for additional information prior to mandatory verifications. Therefore, in accordance with section 751(a)(3)(A) of the Act, the Department is further extending the time period for completion of the preliminary results of this review by 30 days until June 30, 2007. Because June 30, 2007, falls on a Saturday, the preliminary results will due on July 2, 2007, the next business day.

This notice is published in accordance with sections 751(a)(3)(A) and 777(i) of the Act.

Dated: April 30, 2007.
Stephen J. Claeys,
Deputy Assistant Secretary for Import Administration.

[FR Doc. E7-8587 Filed 5-3-07; 8:45 am]

BILLING CODE 3510-DS-S